DEPARTMENT OF ENERGY

Energy Information Administration

Agency Information Collection Extension

AGENCY: U.S. Energy Information Administration (EIA), Department of Energy (DOE).

ACTION: Notice and request for comments.

SUMMARY: EIA submitted an information collection request for extension as required by The Paperwork Reduction Act of 1995. The information collection requests a three-year extension with changes to the Electric Power & Renewable Electricity Surveys (EPRES), OMB Control Number 1905-0129. The collection consists of eight surveys and collects data from entities involved in the production, transmission, delivery, and sale of electricity, and the manufacture, shipment, import, and export of photovoltaic cells and modules in maintaining the reliable operation of the power system. The data collected are the primary source of information on the nation's electric power system.

DATES: Comments on this information collection must be received no later than February 3, 2020. If you anticipate any difficulties in submitting your comments by the deadline, contact the OMB Desk Officer by email or mail.

ADDRESSES: Written comments should be sent to OMB Desk Officer: Office of Information and Regulatory Affairs, Office of Management and Budget, New Executive Office Building, Room 10102, 735 17th Street NW, Washington, DC 20503. oira_submission@omb.eop.gov.

FOR FURTHER INFORMATION CONTACT: If you need additional information or copies of the information collection instrument, send your request to Daniel Bier by email at Electricity2020@eia.gov, or by phone at (202) 586-0379. The forms and instructions are available on EIA's website at https://www.eia.gov/survey/.

SUPPLEMENTARY INFORMATION: This information collection request contains:

(1) OMB No.: 1905-0129;

(2) Information Collection Request Title: Electric Power & Renewable Electricity Surveys;

The surveys included in this information collection request are:

• Form EIA-63B Photovoltaic Module Shipments Report;

• Form EIA-860 Annual Electric Generator Report;

• Form EIA-860M Monthly Update to the Annual Electric Generator Report;

• Form EIA-861 Annual Electric Power Industry Report;

• Form EIA-861S Annual Electric Power Industry Report (Short Form;

• Form EIA-861M Monthly Electric Power Industry Report;

• Form EIA-923 Power Plant Operations Report; and

• Form EIA-930 Balancing Authority Operations Report.

(3) Type of Request: Three-year extension with changes;

(4) Purpose: The EPRES survey program collects data from business entities involved in the production, transmission, delivery, and sale of electricity, and in maintaining the reliable operation of the power system. The data collected are the primary source of information on the nation's electric power industry.

The individual surveys and their uses are described below:

• Form EIA-63B Photovoltaic Module Shipments Report collects information on photovoltaic module manufacturing, shipments, technology types, revenue, and related information. The data collected on this form are used by DOE, Congress, other government and non-government entities, and the public to monitor the current status and trends of the photovoltaic industry.

• Form EIA-860 Annual Electric Generator Report collects data on existing and planned electric generation plants, and associated equipment including generators, boilers, cooling systems, and environmental control systems to provide information on the generating capacity of the U.S. electric grid.

• Form EIA-860M Monthly Update to the Annual Electric Generator Report collects data on the status of proposed new generators scheduled to begin commercial operation within the future 12-month period; and existing generators that have proposed modifications that are scheduled for completion within one month as well as existing generators scheduled to shut down within the subsequent 12 months.

• Form EIA-861 Annual Electric Power Industry Report collects annual information on the retail sale, distribution, transmission, and generation of electric energy in the United States and its territories. The data include related activities such as energy efficiency and demand response programs. In combination with Form EIA-861S short form and the monthly Form EIA-861M, this annual survey provides coverage of sales to ultimate customers of electric power and related activities. Form EIA-861S, Annual Electric Power Industry Report (Short Form) collects a limited set of information annually from small companies involved in the retail sale of electricity. A complete set of annual data are collected from large companies on Form EIA-861. The small utilities that currently report on Form EIA-861S are required to complete Form EIA-861 once every eight years to provide updated information for the statistical estimation of uncollected data. Form EIA-861M, Monthly Electric Power Industry Report collects monthly information from a sample of electric utilities, energy service providers and distribution companies that sell or deliver or deliver electric power to end users. Data included on this form includes sales and revenue for end-use sectors—residential, commercial, industrial, and transportation. This survey is the monthly complement to the annual data collection from the universe of respondents that report on Form EIA-861 and Form EIA-861S.

• Form EIA-923 Power Plant Operations Report collects information from electric power plants in the United States on electric power generation, energy source consumption, end of reporting period fossil fuel stocks, as well as the quality and cost of fossil fuel receipts.

• Form EIA-930 Balancing Authority Operations Report collects a comprehensive set of the current day's system demand data on an hourly basis and the prior day's basic hourly electric system operating data on a daily basis. The data provide a basic measure of the current status of electric systems in the United States and can be used to compare actual system demand with the day-ahead forecast, thereby providing a measure of the accuracy of the forecasting used to commit resources. In addition, the data can be used to address smart grid related issues such as integrating wind and solar generation, improving the coordination of natural gas and electric short-term operations and expanding the use of demand response, storage, and electric vehicles in electric systems operations.

(4a) Changes to Information Collection:

Form EIA-411

EIA is discontinuing Form EIA-411.

(5) Annual Estimated Number of Respondents: 19,789:

Form EIA-63B has 55 respondents;

Form EIA-860 has 4,757 respondents;

Form EIA-860M has 312 respondents;

Form EIA-861 has 1,675 respondents;

Form EIA-861S has 1,730 respondents;

Form EIA-861M has 620 respondents;

Form EIA-923 has 10,575 respondents;

Form EIA-930 has 65 respondents.

(6) Annual Estimated Number of Total Responses: 75,206.

(7) Annual Estimated Number of Burden Hours: 170,041 hours.

(8) Annual Estimated Reporting and Recordkeeping Cost Burden: $13,351,619 (170,041 burden hours times $78.52 per hour). EIA estimates that there are no additional costs to respondents associated with the surveys other than the costs associated with the burden hours.

Statutory Authority: 15 U.S.C. 772(b) and 42 U.S.C. 7101 et seq.

Signed in Washington, DC, on December 17, 2019.
Nanda Srinivasan,
Director, Office of Statistical Methods and Research, U.S. Energy Information Administration.

[FR Doc. 2019-28322 Filed 12-31-19; 8:45 am]

BILLING CODE 6450-01-P